DEPARTMENT OF TRANSPORTATION

Office of the Secretary

Application of California-Palomar Airlines, Inc.; D/B/A California Pacific Airlines for Certificate Authority

AGENCY: Department of Transportation.

ACTION: Notice of Order to Show Cause (Order 2011-8-15); Docket DOT-OST-2010-0126.

SUMMARY: The Department of Transportation is directing all interested persons to show cause why it should not issue an order finding California-Palomar Airlines, Inc. d/b/a California Pacific Airlines fit, willing, and able, and awarding to it a certificate of public convenience and necessity to engage in interstate scheduled air transportation of persons, property, and mail.

DATES: Persons wishing to file objections should do so no later than August 24, 2011.

ADDRESSES: Objections and answers to objections should be filed in Docket DOT-OST-2010-0126 and addressed to U.S. Department of Transportation, Docket Operations, (M-30, Room W12-140), 1200 New Jersey Avenue, SE., West Building Ground Floor, Washington, DC 20590, and should be served upon the parties listed in Attachment A to the order.

FOR FURTHER INFORMATION CONTACT: Damon D. Walker, Air Carrier Fitness Division (X-56, Room W86-465), U.S. Department of Transportation, 1200 New Jersey Avenue, SE., Washington, DC 20590, (202) 366-7785.

Robert A. Letteney,
Deputy Assistant Secretary for Aviation and International Affairs.

[FR Doc. 2011-20948 Filed 8-16-11; 8:45 am]

BILLING CODE P